FEDERAL COMMUNICATIONS COMMISION

Public Information Collections Approved by Office of Management and Budget

December 18, 2002.

AGENCY: Federal Communications Commission.

ACTION: Notice.

SUMMARY: The Federal Communications Commission has received Office of Management and Budget (OMB) approval for the public information collection FCC Form 325, Annual Report of Cable Television Systems (3060-0061). Therefore, the Commission announces that OMB 3060-0061 is effective December 18, 2002.

DATES: Effective December 18, 2002.

FOR FURTHER INFORMATION CONTACT: Sarah Mahmood, 202-418-7009.

SUPPLEMENTARY INFORMATION: The Federal Communications Commission has received OMB approval for the December 2002 edition of the FCC Form 325, Annual Report Of Cable Television Systems. The effective date for use of the revised form is December 18, 2002. Through this document, the Commission announces that it has received this approval; OMB Control No. 3060-0061. Pursuant to the Paperwork Reduction Act of 1995, Public Law 104-13. An agency may not conduct or sponsor a collection of information unless it displays a currently valid control number. Notwithstanding any other provisions of law, no person shall be subject to any penalty for failing to comply with a collection of information subject to the Paperwork Reduction Act (PRA) that does not display a valid control number. Questions concerning the OMB control numbers and expiration dates should be directed to Les Smith, Federal Communications Commission, (202) 418-0217.

Federal Communications Commission.
Marlene H. Dortch,
Secretary.

[FR Doc. 03-16322 Filed 6-26-03; 8:45 am]

BILLING CODE 6712-01-P